DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 16, 2019.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on November 07, 2019.
Donald P. Burger,
Chief, General Approvals and Permits Branch.

Special Permits Data
Application No. | Applicant | Regulation(s) affected | Nature of the special permits thereof
20954-N | BNSF RAILWAY COMPANY | 172.203(a), 174.24, 174.26 | To authorize the use of electronic means to maintain and communicate on-board train consist information in lieu of paper documentation when hazardous materials are transported by rail. (mode 2).
20955-N | ZHEJIANG CHUMBOON IRON-PRINTING & TIN-MAKING CO., LTD | 173.304(d) | To authorize the manufacture, marking, sale and use of a non-refillable, non-DOT specification inside metal container. (modes 1, 2, 3, 4).
20956-N | VALTRIS SPECIALTY CHEMICALS | 171.8, 171.4, 172.203(l), 172.322, 176.70 | To authorize the transportation in commerce of two materials as not meeting the § 171.8 definition of a marine pollutant. (modes 1, 2, 3, 4, 5).
20957-N | VERSUM MATERIALS, INC | 173.338(a) | To authorize the transportation in commerce of tungsten hexafluoride in tubes that are dual marked to a DOT and UN specification. (modes 1, 2, 3).
20958-N | University of Colorado | 173.301(g), 173.24(b), 173.24(b)(1), 173.24(f), 173.24(f)(2), 173.24(g)(2) | To authorize the transportation in commerce of compressed air in cylinders which will be purged during transportation in order to protect sensitive equipment from contamination. (modes 1, 4).
20960-N | Johnson Outdoors Gear LLC | 173.302a(a)(1) | To authorize the transportation in commerce of Division 2.1 materials in a non-DOT specification receptacle similar to the 2P specification. (modes 1, 2, 3, 4).
20961-N | Portable Electric, Ltd | 172.101(j) | To authorize the transportation in commerce of lithium ion batteries contained in equipment that exceeding 35 kg by air. (mode 4).
20962-N | Portable Electric, Ltd | 172.101(j), 173.185(b) | To authorize the transportation in commerce by cargo only aircraft of lithium-ion batteries that exceed the maximum weight allowed. (mode 4).
20963-N | Lg Chem Wroclaw Energy Sp Z O O | 172.101(j) | To authorization in commerce of lithium ion batteries exceeding 35 kg by cargo-only aircraft. (mode 4).
20964-N | Stanley Black & Decker, Inc | 172.200, 172.600, 172.700(a), 173.185(b) | To authorize the manufacture, mark, sale, and use of lithium ion batteries contained in an enclosure (i.e., generator) providing protection that would otherwise be achieved through packaging. (mode 1).
20965-N | Autoliv Asp, Inc | 173.166 | To authorize the transportation in commerce of air bag inflators installed in apparel as “safety devices“. (modes 1, 2, 3, 4, 5).
20966-N | Autoliv Asp, Inc | 173.166(d) | To authorize the transportation in commerce of air bag inflators contained in apparel as not subject to requirements of the HMR. (modes 1, 2, 3, 4, 5).
20969-N | Porsche Logistik Gmbh | 172.101(j) | To authorize the transportation in commerce of lithium batteries exceeding 35 kg by cargo-only aircraft. (mode 4).

[FR Doc. 2019-24711 Filed 11-13-19; 8:45 am]

BILLING CODE 4909-60-P